ENVIRONMENTAL PROTECTION AGENCY

[FRL-9673-3]

Intent To Grant Patent License

AGENCY: Environmental Protection Agency (EPA).

ACTION: Notice of Intent to Grant Co-Exclusive Patent License.

SUMMARY: Pursuant to 35 U.S.C. 207 (Patents) and 37 CFR part 404 (U.S. Government patent licensing regulations), EPA hereby gives notice of its intent to grant a co-exclusive, royalty-bearing, revocable license to practice the inventions described and claimed in the U.S. patents and patent applications listed at the end of this message, and all corresponding patents issued throughout the world, and all reexamined patents and reissued patents granted in connection with such patent applications, to American Hydraulic Power, LLC of Michigan.

The inventions pertain to hybrid vehicle technology, particularly hydraulic hybrid drive systems, methods, and components. The proposed license will contain appropriate terms, limitations, and conditions negotiated in accordance with 35 U.S.C. 209 and 37 CFR 404.5 and 404.7 of the U.S. Government patent licensing regulations. EPA will finalize terms and conditions and grant the license unless, within 15 days from the date of this notice, EPA receives, at the address below, written objections to the grant, together with supporting documentation. The documentation from objecting parties having an interest in practicing the inventions listed in the patents and patent applications below should include an application for a nonexclusive license with the information set forth in 37 CFR 404.8. The EPA Patent Attorney and other EPA officials will review all written responses and then make recommendations on a final decision to the Director or Deputy Director of the Office of Transportation and Air Quality, who have been delegated the authority to issue patent licenses under EPA Delegation 1-55.

The proposed license will apply to the following patents and patent applications:

Method or Vehicle Licensed Inventions
Patent No. | Title | Date issued
5,495,912 | Hybrid Powertrain Vehicle | March 5, 1996.
5,887,674 | Continuously Smooth Transmission | March 30, 1999.
6,719,080 | Hydraulic Hybrid Vehicle | April 13, 2004.
6,876,098 | Methods of Operating a Series Hybrid Vehicle | April 5, 2005.
7,456,509 | Methods of Operating a Series Hybrid Vehicle (div) | November 25, 2008.
7,337,869 | Hydraulic Hybrid Vehicle with Integrated Drive Module and Four-Wheel-Drive, and Method of Operation Thereof | March 4, 2008.
7,252,020 | Vehicle Drivetrain including a Clutchless Transmission, and Method of Operation | August 7, 2007.
6,998,727 | Methods of Operating a Parallel Hybrid Vehicle Having an Internal Combustion Engine and a Secondary Power Source | February 14, 2006.
7,104,349 | Hybrid Powertrain Motor Vehicle with Homogenous Charge Compression Ignition (HCCI) Engine, and Method of Operation Thereof | September 12, 2006.
7,857,082 | Methods of Operating a Series Hybrid Vehicle (Div.) | December 28, 2010.
7,984,783 | Hydraulic Hybrid Vehicle with Integrated Hydraulic Drive Module and Four-Wheel-Drive, and Method of Operation Thereof (Div.) | July 26, 2011.
8,118,132 | Hydraulic Hybrid Vehicle Methods of Safe Operation | February 21, 2012.
8,162,094 | Hydraulic Hybrid Vehicle with Large-Ratio Shift Transmission, and Method of Operation | April 24, 2012.

Application No. | Title | Date filed
PCT/US2011/027667 | Hydraulic Hybrid Vehicle with Safe and Efficient Hydrostatic Operation | March 9, 2011.
12/654,321 | Methods of Optimizing Efficiency of a Series Hybrid Vehicle with Multi-Gear Transmission | December 17, 2009.
12/711,603 | Hydraulic-Electric Regenerative Energy Storage System | February 24, 2010.
PCT/US2011/031806 | Methods for Safe Operation of Hydraulic Hybrid Vehicles with Over-Center Pump/Motors | April 8, 2011.
12/731,326 | Regenerative Energy Storage System for Hybrid Locomotive | March 25, 2010.
12/955,795 | Methods of Operating a Series Hybrid Vehicle (Div.) | November 29, 2010.
13/356,276 | Hydraulic Hybrid Vehicle Methods of Safe Operation | January 23, 2012.
13/424,027 | Hydraulic Hybrid Vehicle with Large-Ratio Shift Transmission, and Method of Operation Thereof | March 19, 2012.
61/619,123 | Hydraulic Hybrid Vehicle Control Methods | April 2, 2012.

Hydraulic Component Licensed Inventions
Patent No. | Title | Date issued
6,619,325 | Hydraulic Hybrid Accumulator Shut-off Valve | September 16, 2003.
6,996,982 | Method and Device for Switching Hydraulic Fluid Supplies, such as for a Hydraulic Pump/Motor | February 14, 2006.
7,014,429 | High-Efficiency, Large Angle, Variable Displacement Hydraulic Pump/Motor | March 21, 2006.
7,108,016 | Lightweight Low Permeation Piston-in-Sleeve Accumulator | September 19, 2006.
7,121,304 | Low Permeation Hydraulic Accumulator | October 17, 2006.
7,305,914 | Hydraulic Actuator Control Valve | December 11, 2007.
6,170,524 | Fast Valve and Actuator | January 9, 2001.
7,305,915 | Efficient Pump/Motor with Reduced Energy Loss | December 11, 2007.
7,374,005 | Opposing Pump/Motors | May 20, 2008.
7,500,424 | Hydraulic Machine Having Pressure Equalization | March 10, 2009.
7,527,074 | Hydraulic Pressure Accumulator | May 5, 2009.
7,537,075 | Hydraulic Hybrid Vehicle with Integrated Hydraulic Drive Module and Four-Wheel-Drive, and Method of Operation Thereof (Div.) | May 26, 2009.
7,553,085 | Fluid Bearing and Method of Operation | June 30, 2009.
7,594,802 | Large Angle Sliding Valve Plate Pump/Motor | September 29, 2009.
7,617,761 | Opposing Pump/Motors (divisional) | November 17, 2009.
7,677,871 | High-Efficiency, Large Angle, Variable Displacement Hydraulic Pump/Motor (Divisional) | March 16, 2010.
8,052,116 | Quiet Fluid Supply Valve | November 8, 2011.
8,100,221 | Engine-Off Power Steering System | January 24, 2012.
8,020,587 | Piston-in-Sleeve Hydraulic Pressure Accumulator | September 20, 2011.
7,987,940 | Hydraulic Accumulator and Fire Suppression System | August 2, 2011.

Application No. | Title | Date filed
11/233,822 | Independent Displacement Opposing Pump/Motors and Method of Operation | September 22, 2005.
11/540,089 | Safe Over-Center Pump/Motor | September 29, 2006.
12/701,438 | Variable Length Bent-Axis Pump/Motor | February 5, 2010.
12/567,938 | Hydraulic Circuit and Manifold with Multi-Function Valve | September 28, 2009.
13/415,109 | Modular Hydraulic Hybrid Drivetrain | March 8, 2012.
13/232,677 | Engine-Off Power Steering System | September 14, 2011.
12/215,438 | On-Demand Power Brake System and Method | June 26, 2008.
13/433,839 | On-Board Hydraulic Fluid Degasification System for a Hydraulic Hybrid Vehicle | March 29, 2012.
61/609,597 | Radial Hydraulic Motor for a Hydraulic Hybrid Vehicle | March 12, 2012.
61/635,085 | Integrated Hydraulic Accumulator Dual Shut-Off Valve | April 18, 2012.

DATES: Comments on this notice must be received by EPA at the address listed below by June 1, 2012.

FOR FURTHER INFORMATION CONTACT: David Read, Attorney Advisor, Environmental Protection Agency, National Vehicle Fuel Emissions Laboratory, Office of Air and Radiation, 2565 Plymouth Road, Ann Arbor, MI 48105, telephone (734) 214-4367.

Dated: May 10, 2012.
Geoff Cooper,
Assistant General Counsel, General Law Office.

[FR Doc. 2012-11965 Filed 5-16-12; 8:45 am]

BILLING CODE 6560-50-P